NATIONAL CREDIT UNION ADMINISTRATION

Sunshine Act: Notice of Agency Meeting

TIME AND DATE: 10:00 a.m., Thursday, October 23, 2014.

PLACE: Board Room, 7th Floor, Room 7047, 1775 Duke Street (All visitors must use Diagonal Road Entrance), Alexandria, VA 22314-3428.

STATUS: Open.

MATTERS TO BE CONSIDERED:

1. NCUA's Rules and Regulations, Loans in Areas Having Special Flood Hazards.

2. NCUA's Rules and Regulations, Corporate Credit Unions.

3. Share Insurance Fund Quarterly Report.

RECESS: 11:00 a.m.

TIME AND DATE: 11:15 a.m., Thursday, October 23, 2014.

PLACE: Board Room, 7th Floor, Room 7047, 1775 Duke Street, Alexandria, VA 22314-3428.

STATUS: Closed.

MATTERS TO BE CONSIDERED:

1. Appeal of Denial of Official. Closed pursuant to Exemptions (6) and (8).

2. Administrative Enforcement Action. Closed pursuant to Exemptions (3), (6) and (10).

FOR FURTHER INFORMATION CONTACT: Gerard Poliquin, Secretary of the Board, Telephone: 703-518-6304.

Gerard Poliquin,
Secretary of the Board.

[FR Doc. 2014-24961 Filed 10-16-14; 4:15 pm]

BILLING CODE 7535-01-P